DEPARTMENT OF ENERGY

Federal Energy Regulatory Commission

[Docket No. CP00-40-000, -001, and -002]

Florida Gas Transmission Company; Errata Notice; Notice of Availability of the Draft Environmental Impact Statement for the Proposed FGT Phase V Expansion Project

The Notice of Availability of the Draft Environmental Impact Statement (draft EIS) for the Proposed Florida Gas Transmission Company Phase V Expansion Project (70 FR 18767, published April 11, 2001) issued on April 5, 2001, and page 2 of the letter inside the cover of the draft EIS lists the locations of meetings that will be held to receive comments on the draft EIS. However, the time was not specified. Each of the meetings will start at 7:00 p.m.

David P. Boergers,
Secretary.

[FR Doc. 01-9900 Filed 4-20-01; 8:45 am]

BILLING CODE 6717-01-M